DEPARTMENT OF THE TREASURY

Fiscal Service

Surety Companies Acceptable on Federal Bonds—Change in State of Incorporation United States Fidelity and Guaranty Company

AGENCY: Financial Management Service, Fiscal Service, Department of the Treasury.

ACTION: Notice.

SUMMARY: This is Supplement No. 18 to the Treasury Department Circular 570, 2009 Revision, published July 1, 2009, at 74 FR 31536.

FOR FURTHER INFORMATION CONTACT: Surety Bond Branch at (202) 874-6850.

SUPPLEMENTARY INFORMATION: Notice is hereby given that United States Fidelity and Guaranty Company (NAIC# 25887) has redomesticated from the state of Maryland to the state of Connecticut effective December 15, 2009. Federal bond approving officials should annotate their reference copies of the Treasury Department Circular 570 (“Circular”), 2009 Revision, to reflect this change.

The Circular may be viewed and downloaded through the Internet at http://www.fms.treas.gov/c570.

Questions concerning this notice may be directed to the U.S. Department of the Treasury, Financial Management Service, Financial Accounting and Services Division, Surety Bond Branch, 3700 East-West Highway, Room 6F01, Hyattsville, MD 20782.

Dated: June 17, 2010.
William J. Erie,
Acting Director, Financial Accounting and Services Division.

[FR Doc. 2010-15614 Filed 6-29-10; 8:45 am]

BILLING CODE 4810-35-M